DEPARTMENT OF HEALTH AND HUMAN SERVICES

National Institutes of Health

Center for Scientific Review Amended Notice of Meeting

Notice is hereby given of a change in the meeting of the Tumor Cell Biology Study Section, October 10, 2011, 8 a.m. to October 11, 2011, 5 p.m., Embassy Suites at the Chevy Chase Pavilion, 4300 Military Road, NW., Washington, DC 20015 which was published in the Federal Register on September 7, 2011, 76 FR 55402-55403.

The meeting will be held October 10, 2011 from 8 a.m. to 5 p.m. The meeting location remains the same. The meeting is closed to the public.

Dated: September 13, 2011.
Jennifer S. Spaeth,
Director, Office of Federal Advisory Committee Policy.

[FR Doc. 2011-24011 Filed 9-16-11; 8:45 am]

BILLING CODE 4140-01-P